DEPARTMENT OF ENERGY

Federal Energy Regulatory Commission

[Project No. 12711-005]

Ocean Renewable Power Company Maine, LLC; Notice of Availability of Environmental Assessment for the Proposed Cobscook Bay Tidal Energy Project

In accordance with the National Environmental Policy Act of 1969 and the Federal Energy Regulatory Commission's (Commission or FERC's) regulations, 18 CFR Part 380 (Order No. 486, 52 FR 47897), the Office of Energy Projects has reviewed Ocean Renewable Power Company, LLC's application for an 8-year pilot license for the proposed Cobscook Bay Tidal Energy Project (FERC Project No. 12711-005), which would be located in Cobscook Bay in Washington County, Maine, and has prepared an environmental assessment (EA) in cooperation with the U.S. Department of Energy (DOE/EA1916). In the EA, Commission staff analyzes the potential environmental effects of constructing and operating the project and concludes that licensing the project, with appropriate environmental protective measures, would not constitute a major federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-(866) 208-3676, or for TTY, (202) 502-8659. A copy of the EA can also be found on DOE's Public Reading Room Web site at http://www.eere.energy.gov/golden/Reading_Room.aspx. Please reference DOE/EA 1916 in the National Environmental Policy Act Documents section.

You may also register online at http://www.ferc.gov/docs-filing/esubscription.asp to be notified via email of new filings and issuances related to this or other pending projects. For assistance, contact FERC Online Support.

Any comments should be filed within 30 days from the date of this notice. Comments may be filed electronically via the Internet. See 18 CFR 385.2001(a)(1)(iii) and the instructions on the Commission's Web site (http://www.ferc.gov/docs-filing/ferconline.asp) under the “eFiling” link. Commenters can submit brief comments up to 6,000 characters, without prior registration, using the eComment system at http://www.ferc.gov/docs-filing/ecomment.asp. You must include your name and contact information at the end of your comments. For assistance, please contact FERC Online Support. Although the Commission strongly encourages electronic filings, documents may also be paper-filed. To paper-file, mail an original and seven copies to: Kimberly D. Bose, Secretary, Federal Energy Regulatory Commission, 888 First Street NE., Washington, DC 20426. Please affix Project No. 12711-005 to all comments.

For further information, contact Timothy Konnert by telephone at (202) 502-6359 or by email at timothy.konnert@ferc.gov.

Dated: January 4, 2012.
Kimberly D. Bose,
Secretary.

[FR Doc. 2012-272 Filed 1-10-12; 8:45 am]

BILLING CODE 6717-01-P